DEPARTMENT OF COMMERCE

Bureau of the Census

[Docket Number 141114970-4970-01]

2014 Company Organization Survey

AGENCY: Bureau of the Census, Commerce.

ACTION: Notice of determination.

SUMMARY: The Bureau of the Census (Census Bureau) publishes this notice to announce that it is conducting the 2014 Company Organization Survey. The survey's data are needed, in part, to update the multilocation companies in the Business Register. We have determined that annual data collected from this survey have significant application to the needs of the public and industry and are needed to aid the efficient performance of essential governmental functions. The data derived from this survey are not available from any other source.

ADDRESSES: The Census Bureau will furnish report forms to organizations included in the survey, and additional copies are available upon written request to the Director, U.S. Census Bureau, Washington, DC 20233-0101.

FOR FURTHER INFORMATION CONTACT: Anthony M. Caruso, Economy-Wide Statistics Division, U.S. Census Bureau, Room 6K153, Washington, DC 20233-6100 or by email at Anthony.M.Caruso@census.gov.

SUPPLEMENTARY INFORMATION: Sections 182, 224, and 225 of Title 13, United States Code (U.S.C.), authorize the Census Bureau to undertake surveys necessary to furnish current data on the subjects covered by the major censuses. Years that end in “2” and “7” are considered economic “census years.” All other years, other than the years when the economic censuses are conducted, are considered “non-census” years. In non-census years, companies report only on basic company affiliation and operations of establishments. In these non-census years, all multi-establishment companies with 500 or more employees report survey information. Also, groups of smaller companies that are divided into panels may be selected to report information for one of the non-census years. Smaller companies may be selected if an organizational change within the company is indicated or if they have been selected through probability sampling. The next economic census will be conducted for 2017.

This notice announces that the Census Bureau is conducting the 2014 Company Organization Survey. The survey is designed to collect information on the number of employees, payroll, geographic location, current operational status, and kind of business for each establishment of companies with more than one location. We have determined that annual data collected from this survey have significant application to the needs of the public and industry, and are needed to aid the efficient performance of essential governmental functions. The survey's data are needed, in part, to update the multilocation companies in the Business Register. The data collected in the Company Organization Survey will be within the general scope, type, and character of those that are covered in the economic censuses. Forms NC-99001 (for multi-establishment companies) and NC-99007 (for single-location companies) will be used to collect the desired data. The data derived from this survey are not available from any other source.

Notwithstanding any other provision of law, no person is required to respond to, nor shall a person be subject to a penalty for failure to comply with a collection of information subject to the requirements of the Paperwork Reduction Act unless that collection of information displays a current valid Office of Management and Budget (OMB) control number. In accordance with the Paperwork Reduction Act, the OMB approved Forms NC-99001 and NC-99007 under OMB Control Number 0607-0444. We will furnish report forms to organizations included in the survey, and additional copies are available upon written request to the Director, U.S. Census Bureau, Washington, DC 20233-0101.

I have, therefore, directed that the 2014 Company Organization Survey be conducted for the purpose of collecting these data.

Dated: November 24, 2014.
John H. Thompson,
Director, Bureau of the Census.

[FR Doc. 2014-28264 Filed 11-28-14; 8:45 am]

BILLING CODE 3510-07-P